DEPARTMENT OF HEALTH AND HUMAN SERVICES

Centers for Disease Control and Prevention

[60-Day-10-0212]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed project or to obtain a copy of the data collection plans and instruments, call the CDC Reports Clearance Officer at 404-639-5960 or send comments to CDC Assistant Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Revision of the National Hospital Discharge Survey (NHDS) (OMB No. 0920-0212 exp. 10/31/2011)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request includes hospital recruitment and data collection for 2011, 2012, and 2013 of the redesigned National Hospital Discharge Survey, as well as a pretest of data collection on acute coronary syndrome for a supplement to the NHDS which will be sponsored by the National Heart, Lung and Blood Institute.

The National Hospital Discharge Survey (NHDS) has been conducted continuously by the National Center for Health Statistics, CDC, since 1965. It is the principal source of data on inpatient utilization of short-stay, non-Federal hospitals and is the principal annual source of nationally representative estimates on the characteristics of discharges, lengths of stay, diagnoses, surgical and non-surgical procedures, and patterns of use of care in hospitals in various regions of the country. It is the benchmark against which special programmatic data sources are measured.

Although the current NHDS is still fulfilling its intended functions, it is based on concepts from the health care delivery system, as well as the hospital and patient universes, of previous decades. It has become clear that a redesign of the NHDS that provides greater depth of information is necessary. Consequently, 2010 will serve as the last year in which the current NHDS will be fielded. Meanwhile, the redesigned National Hospital Discharge Survey (NHDS) is scheduled to begin in 2011.

A new sample of 500 hospitals drawn for the NHDS will be recruited beginning in June 2011 and continuing through September 2012. In 2011, data collection will begin by collecting the electronic Uniform Bills (UB-04s) from recruited hospitals for the year 2011 followed by data for 2012 and 2013. A pretest of a survey supplement on acute coronary syndrome sponsored by the National Heart Lung and Blood will also be fielded in 2011.

The data items to be collected from the UB-04 in the NHDS will include patient level data items including basic demographic information, personal identifiers, name, address and medical record number (if available on the UB-04), and characteristics of the discharges including admission and discharge dates, diagnoses, and surgical and non-surgical procedures. Facility level data items include demographic information, clinical capabilities, and financial information.

The pretest of the supplement on acute coronary syndrome will be conducted in a convenience sample of 32 hospitals and discharges will be identified from the UB-04 codes for a diagnosis of acute myocardial infarction.

Users of NHDS data include, but are not limited to CDC, Congressional Research Office, Office of the Assistant Secretary for Planning and Evaluation (ASPE), American Health Care Association, Centers for Medicare & Medicaid Services (CMS), and Bureau of the Census. Data collected through NHDS are essential for evaluating health status of the population, for the planning of programs and policy to elevate the health status of the Nation, for studying morbidity trends, and for research activities in the health field. NHDS data have been used extensively in the development and monitoring of goals for the Year 2000 and 2010 Healthy People Objectives. In addition, NHDS data provide annual updates for numerous tables in the Congressionally-mandated NCHS report, Health, United States. Other users of these data include universities, contract research organizations, many in the private sector, foundations, and a variety of users in the print media. There is no cost to respondents other than their time to participate.

Estimated Annualized Burden Table
Respondents | Form | Number of respondents | Number of responses per respondent | Average burden per response (in hours) | Total burden hours
Redesigned NHDS:
Hospital CEO/CFO | Survey presentation to hospital | 167 | 1 | 1 | 167
Director of health information management (DHIM) or Health information technology (DHIT) | Induction (including initial facility questionnaire) | 167 | 1 | 4 | 668
DHIM or DHIT | Post induction annual facility questionnaire | 500 | 2 | 1 | 1,000
DHIM or DHIT | transmit UB-04 | 500 | 4 | 1 | 2,000
Acute Coronary Syndrome Pretest:
Hospital CEO/CFO | Presentation at hospital | 11 | 1 | 1 | 11
DHIM or DHIT | Pulling medical records for abstraction | 11 | 1 | 30/60 | 6
Total |  |  |  |  | 3,852

Dated: August 4, 2010.
Maryam I. Daneshvar,
Reports Clearance Officer, Centers for Disease Control and Prevention.

[FR Doc. 2010-19704 Filed 8-9-10; 8:45 am]

BILLING CODE 4163-18-P